ENVIRONMENTAL PROTECTION AGENCY

[FRL-9132-1]

Science Advisory Board Staff Office; Notification of a Public Teleconference and Public Meeting of the SAB Trichloroethylene (TCE) Review Panel

AGENCY: Environmental Protection Agency (EPA).

ACTION: Notice.

SUMMARY: The EPA Science Advisory Board (SAB) Staff Office announces two public meetings of the SAB Trichloroethylene (TCE) Review Panel: a teleconference and a face-to-face meeting to review EPA's Toxicological Review of Trichloroethylene in Support of Summary Information on the Integrated Risk Information System (IRIS), External Review Draft.

DATES: There will be a public teleconference on April 20, 2010 from 2:30 p.m. to 4:30 p.m. (Eastern Time). The public meeting will be held on May 10, 2010 from 9 a.m. to 5 p.m. (Eastern Time), May 11, 2010 from 9 a.m. to 5 p.m. and May 12, 2010 from 9 a.m. to 3 p.m. (Eastern time).

ADDRESSES: The teleconference will be conducted by phone only. The face-to-face meeting on May 10-12, 2010 will be held at The Hilton Embassy Row Hotel, 2015 Massachusetts Avenue, NW., Washington, DC 20036; telephone (202) 265-1600.

FOR FURTHER INFORMATION CONTACT: Any member of the public wishing to obtain information concerning the public teleconference and/or public meeting may contact Dr. Marc Rigas, Designated Federal Officer (DFO), EPA Science Advisory Board Staff Office (1400F), U.S. Environmental Protection Agency, 1200 Pennsylvania Avenue, NW., Washington, DC 20460; by telephone/voice mail at (202) 343-9978 or at rigas.marc@epa.gov. General information about the SAB, as well as any updates concerning the meeting announced in this notice, may be found on the EPA Web site at http://www.epa.gov/sab.

SUPPLEMENTARY INFORMATION: Pursuant to the Federal Advisory Committee Act (FACA), 5 U.S.C., App. 2, notice is hereby given that the SAB Trichloroethylene Review Panel will hold a public teleconference to discuss the plans for the subsequent public face-to-face meeting to conduct a peer review of the EPA's Toxicological Review of Trichloroethylene in Support of Summary Information on the Integrated Risk Information System (IRIS), External Review Draft (October 2009). The SAB was established pursuant to 42 U.S.C. 4365 to provide independent scientific and technical advice to the Administrator on the technical basis for Agency positions and regulations. The SAB is a Federal Advisory Committee chartered under FACA. The SAB will comply with the provisions of FACA and all appropriate SAB Staff Office procedural policies.

Background: EPA's Integrated Risk Information System (IRIS) is an electronic database containing descriptive and quantitative toxicological information on human health effects that may result from chronic exposure to various substances in the environment. This information supports human health risk assessments and includes hazard identification, dose-response data and derivations of oral reference doses (RfDs) and inhalation reference concentrations (RfCs) for noncancer effects and oral slope factors and oral and inhalation unit risks for cancer effects. IRIS is prepared and maintained by EPA's National Center for Environmental Assessment (NCEA) within the Office of Research and Development (ORD).

In 2001, ORD developed a draft IRIS Toxicological Assessment for TCE, which was released for public comment and external peer review. In 2002, the Environmental Health Committee of the SAB reviewed the draft TCE Assessment and made several recommendations to strengthen the dose-response assessment. In 2004, in preparation for development of a new TCE assessment, the National Research Council (NRC) was requested to provide a scientific consultation on key scientific issues related to assessing the human health risks of TCE, including those relevant to hazard characterization/mode of action, physiologically-based pharmacokinetic (PBPK) modeling, and dose-response assessment. ORD has taken the recommendations and conclusions included in the NRC's report, which was released in 2006, into account as it developed a new revised draft IRIS Toxicological Assessment for TCE. ORD has requested that the SAB review its revised draft assessment.

In response to ORD's request, the SAB Staff Office solicited nominations of experts and formed a review panel for TCE [Federal Register Notice dated October 22, 2009 (74 FR 54563-54564)]. The panel will conduct a review of EPA's October 2009 External Review Draft of its Toxicological Review of Trichloroethylene in Support of Summary Information on the Integrated Risk Information System (IRIS). Specifically, the panel is being asked to provide recommendations on physiologically-based pharmacokinetic (PBPK) modeling, meta-analysis for cancer epidemiology, components of the TCE hazard assessment and dose-response assessment. The purpose of the teleconference is for the panel to receive a briefing on the assessment and for members to clarify the charge to the panel. During the face-to-face meeting, the panel will review the assessment.

Availability of Meeting Materials: Agendas and materials in support of these meetings will be placed on the EPA Web site at http://www.epa.gov/sab in advance of each meeting. For technical questions and information concerning EPA's draft document, please contact Dr. Weihsueh Chiu at (703) 347-8607, or chiu.weihsueh@epa.gov.

Procedures for Providing Public Input: Interested members of the public may submit relevant written or oral information for the SAB Trichloroethylene Review Panel to consider during this advisory activity. Oral Statements: In general, individuals or groups requesting an oral presentation at a public teleconference will be limited to three minutes per speaker, with no more than a total of 30 minutes for all speakers. At the face-to-face meeting, presentations will be limited to five minutes, with no more than a total of one hour for all speakers. Each person making an oral statement should consider providing written comments as well as their oral statement so that the points presented orally can be expanded upon in writing. Interested parties should contact Dr. Marc Rigas, DFO, in writing (preferably via e-mail) at the contact information noted above by April 13, 2010 for the teleconference and by May 3, 2010 for the face-to-face meeting, to be placed on the list of public speakers. Written Statements: Written statements should be supplied to the DFO via e-mail at the contact information noted above by April 13, 2010 for the teleconference and by May 3, 2010 for the face-to-face meeting so that the information may be made available to the Committee members for their consideration. Written statements should be supplied in one of the following electronic formats: Adobe Acrobat PDF, MS Word, MS PowerPoint, or Rich Text files in IBM-PC/Windows 98/2000/XP format. Submitters are requested to provide versions of signed documents, submitted with and without signatures, because the SAB Staff Office does not publish documents with signatures on its Web sites.

Accessibility: For information on access or services for individuals with disabilities, please contact Dr. Marc Rigas at (202) 343-9978 or rigas.marc@epa.gov. To request accommodation of a disability, please contact Dr. Rigas preferably at least ten days prior to each meeting to give EPA as much time as possible to process your request.

Dated: March 24, 2010.
Vanessa T. Vu,
Director, EPA Science Advisory Staff Office.

[FR Doc. 2010-7229 Filed 3-30-10; 8:45 am]

BILLING CODE 6560-50-P